DEPARTMENT OF HOUSING AND URBAN DEVELOPMENT

[Docket No. FR-5030-C-01B]

Notice of HUD's Fiscal Year (FY) 2006 Notice of Funding Availability, Policy Requirements and General Section to SuperNOFA for HUD's Discretionary Grant Programs; Correction

AGENCY: Office of the Secretary, HUD.

ACTION: Super notice of funding availability (SuperNOFA) for HUD Discretionary Grant Programs; correction.

SUMMARY: On January 20, 2006, HUD published its Fiscal Year (FY) 2006, Notice of Funding Availability Policy Requirements and General Section (General Section) to the SuperNOFA for HUD's Discretionary Programs. On March 8, 2006, HUD published its Fiscal Year (FY) 2006, SuperNOFA, for HUD's Discretionary Grant Programs. This document makes corrections or clarifications to the General Section, the Community Development Block Grant Program for Indian Tribes and Alaska Native Villages (ICDBG), Housing Counseling Programs, Lead-Based Paint Hazard Control Grant Program, Lead Hazard Reduction Grant Program, Operation Lead Elimination Action Program, Technical Studies Programs (Lead Technical Studies and Healthy Homes Technical Studies), Home Hazard Demonstration Program, Brownfields Economic Development Initiative (BEDI), Youthbuild, Section 202 Housing for the Elderly Program (Section 202 Program), and Section 811 Supportive Housing For Persons With Disabilities (Section 811 Programs). These changes affect the NOFAs listed, but do not affect the application packages on Grants.gov.

DATES: The application submission dates for the program sections of the SuperNOFA remain as published in the Federal Register on March 8, 2006.

FOR FURTHER INFORMATION CONTACT: Questions regarding the General Section of January 20, 2006, should be directed to the NOFA Information Center between the hours of 10 a.m. and 6:30 p.m. Eastern Time at (800) HUD-8929. Hearing-impaired persons may call 800-HUD-2209. For the programs listed in this notice, please contact the office or individual listed under section VII of the individual program sections of the SuperNOFA, published on March 8, 2006.

SUPPLEMENTARY INFORMATION: On January 20, 2006 (71 FR 3382), HUD published its Fiscal Year (FY) 2006, Notice of Funding Availability Policy Requirements and General Section (General Section) to the SuperNOFA for HUD's Discretionary Programs. Early publication of the General Section was intended to provide prospective applicants additional time to become familiar with and address those provisions in the General Section that constitute part of almost every application. On March 8, 2006 (71 FR 11712), HUD published its Notice of HUD's Fiscal Year (FY) 2006, SuperNOFA for HUD's Discretionary Grant Programs. The FY2006 SuperNOFA announced the availability of approximately $2.2 billion in HUD assistance. This notice published in today's Federal Register makes technical corrections and clarifications to the General Section, the Community Development Block Grant Program for Indian Tribes and Alaska Native Villages (ICDBG), Housing Counseling Program, Lead-Based Paint Hazard Control Grant Program, the Lead Outreach Grant Program, the Lead Hazard Reduction Demonstration Grant Program, the Operation Lead Elimination Action Program, Technical Studies Programs (Lead Technical Studies and Healthy Homes Technical Studies), Home Hazard Demonstration Program, Brownfields Economic Development Initiative (BEDI), Youthbuild, Section 202 Housing for the Elderly Program (Section 202 Program), and Section 811 Supportive Housing For Persons With Disabilities (Section 811 Program). Additionally, changes have been made to the Logic Models for the Rural Housing Economic Development Program NOFA, which now includes an option to select “other” in the dropdown listing for Outputs and outcomes; the Community Development-Technical Assistance Program NOFA, which corrected the drop down activity listing which was not showing one of the activities; and Youthbuild Program NOFA, which now provides an output element for GED program enrollment. The revised Logic Models, which are not part of today's notice, can be found in the program instruction download at Grants.gov.

Summary of Technical Corrections

Summaries of the technical corrections made by this document follow. The page number shown in brackets identifies where the individual funding availability announcement that is being corrected can be found either in the January 20, 2006, General Section or the March 8, 2006, SuperNOFA. The technical correction described in today's Federal Register will also be reflected in the application instructions located on Grants.gov/Apply. Applicants who have submitted their applications prior to this publication can choose to resubmit an updated application that reflects the corrections and clarifications. The last application received and validated by Grants.gov by the deadline date will be the application that is reviewed and rated.

General Section [3382]

On page 3389, section IV.C.5., third column, HUD is deleting item number 5. Currently, item 5 says, “Upload the application using Internet Explorer or Netscape browsers.” The subsection discusses the validation of applications, specifically advising applicants to submit early because if the application fails the validation check the applicant will still have time to resubmit application within the deadline. This item is correctly found on page 3393, section IV.F.4.a., first column, as part of the submission tips.

On page 3391, section IV.F.3.d.(1), second column, describes the requirements for submitting attachments to the application. All documents that you are submitting as electronic files must be submitted electronically in Microsoft Word (version 9 or earlier), Microsoft Excel 2000, or in Portable Document Format (PDF) that is compatible with AdobeTM Reader version 6.0 or earlier. Computer Aided Design (CAD) files must be saved and submitted as PDF files. HUD is taking the opportunity afforded by this technical correction to clarify that all file types that are attached using the attachments form must be Microsoft Word (version 9 or earlier), Microsoft Excel 2000, or PDF version 6.0 or earlier. In addition, some NOFAs may request photos, if this is the case, the photos may be attached using .jpg files. If HUD receives any file in a format other than those specified in this technical correction, HUD will not be able to read the file(s) and, therefore, the file(s) will not be reviewed.

On page 3391, section IV.F.3.d.(2)(b), third column, first full paragraph, HUD is clarifying the instructions provided to applicants for submitting faxes.

On page 3393, section IV.F.5., second column, HUD is clarifying the procedure for requesting a waiver by e-mail. Those applicants wishing to submit waiver requests by e-mail must include their organization's name, DUNS number, and the name of the Authorized Official that is legally able to make such a request from HUD in the body of the e-mail. Applicants must also include a contact name and telephone number in case clarification is needed. Waivers will only be granted for cause. If this information is not included the waiver request will not be considered.

On page 3396, section V.B.2.e., first column, HUD is correcting the sentence that contains the reference to the Web site where applicants can find the listing of MSIs. The Web site on the Department of Education Web page is no longer available. The correct Web site can be found at the Department of Transportation Web site, at http://www.dotcr.ost.dot.gov/asp/dotpart/msi/dotpartmin.asp#3.

On page 3398, section VI.C., third column, above the first full paragraph, HUD is adding an additional paragraph to section VI.C., in order to clarify how applicants should complete the Logic Model. HUD has received questions on what numbers or letters should be used to note Strategic Goals and Policy Priorities in completing the Logic Model. Please use the numbers or letters as they are designated, in the January 20, 2006, General Section published in the Federal Register, identifying the HUD (Strategic) Goals and HUD Policy Priorities. If you want to address the sub elements of the HUD Goals or Policy Priorities, you may include them as part of your narrative response to Factor 5. Any sub-components you want to include in your application must be included in the Logic Model Narrative. For Continuum of Care applicants, you should add a narrative attachment to your application labeled “Logic Model.”

Community Development Block Grant Program for Indian Tribes and Alaska Native Villages (ICDBG) [page 11728]

On page 11736, section V.A.2., chart, bottom-half of page, HUD mistakenly constructed Rating Factor 1 to provide current grantees the opportunity to get 40 points but only gave new applicants an opportunity to earn 30 points. Both current grantees and new applicants are eligible for up to 40 points for this factor. HUD is correcting the Rating Factor point breakdown by changing points for Rating Factor 1, subfactors 1.b. through 1.d. to be worth a maximum of 10 points for new applicants.

On page 11737, section V.A.2., first column, Rating Factor 1, 1., HUD is correcting the misstatement of points available to new applicants by changing “(20 points for current ICDBG grantees) (30 points for new applicants) Managerial, Technical, and Administrative Capability” to “(20 points for current ICDBG grantees) (40 points for new applicants) Managerial, Technical, and Administrative Capability'

On page 11737, section V.A.2., third column, Rating Factor 1,1.b., HUD is correcting the misstatement of points available to new applicants by changing “(5 points for current ICDBG grantees) (7 points for new applicants)” to “(5 points for current ICDBG grantees) (10 points for new applicants).” This change occurs twice in the section, both in the third column of page 11737.

On page 11738, section V.A.2., first column, Rating Factor 1, 1.c., HUD is correcting the misstatement of points available to new applicants by changing “(3 points for current ICDBG grantees) (8 points for new applicants)” to “(3 points for current ICDBG grantees) (10 points for new applicants).” This change occurs twice in the section, both in the first column of page 11738.

On page 11738, section V.A.2., second column, Rating Factor 1, 1.c., HUD is correcting the misstatement of points available to new applicants by changing “(2 points for current ICDBG grantees) (4 points for new applicants) to (2 points for current ICDBG grantees) (5 points for new applicants).”

On page 11738, section V.A.2., second column, Rating Factor 1, 1.c., HUD is deleting the paragraph with the point breakdown “(1 points for current ICDBG grantees) (2 points for new applicants)” because it duplicates the language contained in the preceding paragraph.

On page 11738, section V.A.2., second column, Rating Factor 1, 1.d., HUD is correcting the misstatement of points available to new applicants by changing “(2 points for current ICDBG grantees) (5 points for new applicants)” to “(2 points for current ICDBG grantees) (10 points for new applicants).”

On page 11738, section V.A.2., Rating Factor 1, 1.d., third column, HUD is adding the requirement that applicants must describe how they will apply their procurement and contract management policies and procedures to the specific project for which they are applying. HUD inadvertently omitted to include this requirement in the section describing what applicants must include in their application in order to receive the maximum number of points under this subsection.

On page 11738, section V.A.2., third column, Rating Factor 1, 1.d., HUD is correcting the misstatement of points available to new applicants by changing (2 points for current ICDBG grantees) (5 points for new applicants) to (2 points for current ICDBG grantees) (10 points for new applicants).

On page 11738, section V.A.2., third column, Rating Factor 1, 1.d., HUD is correcting the misstatement of points available to new applicants by changing (1 points for current ICDBG grantees) (4 points for new applicants) to (1 points for current ICDBG grantees) (5 points for new applicants).

On page 11739, section V. A. 2, second column, Rating Factor 1, 2. e. (1), HUD is correcting the second sentence to read “If there were no open audit or ICDBG monitoring findings (current grantees only), the applicant will receive 4 points.” This sentence previously indicated that the applicant would receive 2 points.

These corrections are also reflected in the instructions found on Grants.gov/Apply. Applicants must download the instructions to receive all forms and instructions related to this NOFA. Applicants are encouraged to read the instructions on Grants.gov/Apply prior to submitting your application in response to the ICDBG Program funding opportunity.

Housing Counseling Program [11800]

On page 11812, V.B.5.b., second column, last two sentences of the paragraph are being deleted and replaced, HUD is clarifying HUD's process for the awarding of supplemental grants, specifically HECM supplemental grants. HUD is reserving the right to award one or more HECM supplemental grants to eligible applicants that have not already been fully funded in accordance with the funding methodology described in the section.

This correction is also reflected in the instructions found on Grants.gov/Apply. Applicants must download the instructions to receive all forms and instructions related to this NOFA. Applicants are encouraged to read the instructions on Grants.gov/Apply prior to submitting your application in response to the Housing Counseling Program funding opportunity.

Lead-Based Paint Hazard Control Grant Program; Lead Hazard Reduction Demonstration Grant Program; and Operation Lead Elimination Action Program [page 11814]

On page 11817, section III.A., chart, HUD is correcting the eligible applicants information for the Lead Hazard Reduction Demonstration Grant Program. HUD is adding the following eligibility language to the Lead Hazard Reduction Demonstration Grant Program section of the chart, “States and Indian Tribes may apply on behalf of units of local government within their jurisdiction, if the local government designates the state or Indian Tribe as their applicant.” Further information regarding applicant eligibility for each of the programs contained in the NOFA can be found in section Overview Information, G.3.

On page 11818, section III.C.1.b.(10), third column, HUD is removing the family occupancy with a child under the age of six condition from the description of eligible other direct costs regarding lead hazard control activities. The Residential Lead Based Paint Hazard Reduction Act (Title X), the governing legislation for this program, requires at least 50 percent to be occupied by low-income families. See section III.C.8.

On page 11819, section III.C.3.c., first column, HUD is correcting the years required for applicants to report the number of children with documented elevated blood lead levels residing within the jurisdiction where the lead hazard control work will occur from “2002, 2003 and 2004” to “2003, 2004, or 2005.” This technical correction conforms the requirement to the language contained in section V.A.2.a., Rating Factor 2 (page 11825), which says that HUD is looking for data for the most recent available year. Also, in this section HUD is replacing “calendar years” with “twelve month period” because it has come to HUD's attention that many health departments do not report elevated blood level data on a calendar year cycle. To continue to rely on a calendar year cycle would impair the ability of applicants to report data under this NOFA.

On page 11822, section III.C.20.b.(18), second column, HUD is deleting an incorrect Web site address and inserting the correct Web site address to which applicants should refer.

On page 11824, section V.A.1.a.(2), third column, HUD is clarifying the term “Current or previous grantee” by adding “awarded funds in FY2001 or later.” Also in this section, HUD will not be awarding points based on the combination of green, yellow, or red performance ratings and, therefore, has removed that language.

On page 11825, section V.A.2.b., first and second column, HUD is modifying the language in this section to account for the different focuses of the various programs contained within this single NOFA. The provision referring to pre-1940 occupied rental housing is being corrected to read, “Points will be awarded under the Lead Hazard Reduction Demonstration program for the number of pre-1940 occupied rental housing units in the applicant's target area(s) * * *” Highlighting this distinction will avoid confusion because it is only the Lead Hazard Reduction Demonstration Program that focuses on pre-1940 occupied rental housing, whereas the Lead-Based Paint Hazard Control and Operation Lead Elimination Action Programs target pre-1978 occupied housing. HUD is also deleting the two last sentences of subsection b. and inserting the following sentence, “Points will be awarded under the Lead-based Paint Hazard Control and Operation Lead Elimination Action Programs for the number of pre-1978 occupied housing units in the applicant's target area(s) according to the table, “Points Awarded for Number of Pre-1978 Occupied Housing Units Target Area,” that can be downloaded from http://www.hud.gov/offices/adm/grants/fundsavail.cfm.”

On page 11825, section V.A.3., second column, HUD listed 40 available points for Rating Factor 3: Soundness of Approach, however, when each component of Rating Factor 3 is added together the points total 45. To correct this inadvertent mistake, HUD is reducing the points available under “Lead Hazard Control Work Plan Strategy” from 20 to 15 points.

These corrections are also reflected in the instructions found on Grants.gov/Apply. Applicants must download the instructions to receive all forms and instructions related to this NOFA. Applicants are encouraged to read the instructions on Grants.gov/Apply prior to submitting your application in response to the Lead-Based Paint Hazard Control Grant Program, Lead Hazard Reduction Demonstration Grant Program, or Operation Lead Elimination Action Program funding opportunity.

Technical Studies Programs (Lead Technical Studies and Healthy Homes Technical Studies) [Page 11834]

On page 11838, section III.D.1., third column, HUD is modifying the language to make it consistent with the General Section and clarify that applicants must meet the threshold requirements for compliance with Fair Housing and Civil Rights Laws, Conducting Business in Accordance with Core Values and Ethical Standards, Delinquent Federal Debt and Pre-Award Accounting System Surveys prior to receiving an award of funds from HUD. Applications can be rated and ranked prior to meeting these threshold requirements, but an award will not be made if an applicant has not met these requirements.

These corrections are also reflected in the instructions found on Grants.gov/Apply. Applicants must download the instructions to receive all forms and instructions related to this NOFA. Applicants are encouraged to read the instructions on Grants.gov/Apply prior to submitting your application in response to the Technical Studies Programs (Lead Technical Studies and Healthy Homes Technical Studies) funding opportunity.

Healthy Homes Demonstration Program [Page 11858]

On the following pages and sections, HUD has inserted the correct website address to which applicants should refer:

• Page 11859, section I.A., third column;

• Page 11860, section II.A., second column;

• Page 11860, section III.C.2.c., third column;

• Page 11861, section III.C.2.k., first column;

• Page 11861, section III.C.3.c., third column;

• Page 11862, section III.C.3.n., second column;

• Page 11863, section IV.E.1., third column;

• Page 11865, section V.A.2.c., first column;

• Page 11866, section V.A.2.c.(1)(i)(B), third column; and

• Page 11867, section V.A.2.d.(3)(ii), second column.

On page 11864, section V.A.2., first column, HUD is removing the instruction that applicants should refer to the Scoring of Rating Factors guide.

On page 11864, section V.A.2.a.(3), second paragraph, third column, HUD is correcting a typographical error by inserting the word “should.” The sentence will now read, “This table should be included in your application.” HUD is also correcting the Web site address applicants should refer to in this section.

On page 11865, section V.A.2.b.(2)(c), first column, HUD is adding a new paragraph requiring applicants to complete and submit the Factor 2 Table.

On page 11869, section VII., second column, HUD is correcting the room number provided.

On page 11869, section VIII.B., third column, HUD is replacing “semi annual reports” with “quarterly reports” so as to be consistent with the rest of the NOFA.

These corrections are also reflected in the instructions found on Grants.gov/Apply. Applicants must download the instructions to receive all forms and instructions related to this NOFA. Applicants are encouraged to read the instructions on Grants.gov/Apply prior to submitting your application in response to the Healthy Homes Demonstration Program funding opportunity.

Brownfields Economic Development Initiative (BEDI) [11870]

On page 11873, section II.C.2.b., first column, HUD is correcting one of the examples as to why a BEDI grant has been reduced below the original request.

On page 11884, section VII., second column, the Agency Contact is being changed to David Kaminsky and the telephone extension is changed to 4612.

These corrections are also reflected in the instructions found on Grants.gov/Apply. Applicants must download the instructions to receive all forms and instructions related to this NOFA. Applicants are encouraged to read the instructions on Grants.gov/Apply prior to submitting your application in response to the BEDI funding opportunity.

Youthbuild [11886]

On page 11887, section Overview Information, G.3., first column, HUD is expanding the pool of eligible applicants for the Youthbuild program to include Indian tribes and Indian housing authorities and housing entities. On December 22, 2005, the Native American Housing Enhancement Act of 2005 (Act) passed, authorizing the eligibility of Indian tribes and Indian housing authorities and housing entities in the Youthbuild program. HUD inadvertently failed to include Indian tribes and Indian housing authorities and housing entities among those listed as eligible applicants.

On page 11888, section III.A., first column, HUD is expanding the pool of eligible applicants for the Youthbuild program to include Indian tribes and Indian housing authorities and housing entities. On December 22, 2005, the Native American Housing Enhancement Act of 2005 (Act) passed, authorizing the eligibility of Indian tribes and Indian housing authorities and housing entities in the Youthbuild program. HUD inadvertently failed to include Indian tribes and Indian housing authorities and housing entities among those listed as eligible applicants.

On page 11890, section IV.B.2., chart, HUD is correcting two entries in the chart that were inadvertently located in the wrong section. Forms “Questionnaire for HUD's Initiative on Removal of Barriers” and “Facsimile Transmittal” are being moved from the section entitled “Youthbuild Program Specific Forms” to “What to Submit.”

On page 11894, section V.D.1.f., first column, in the description of Leveraging of Non-Housing Resources, HUD mistakenly referenced that the investment is contingent on receiving FY2005 Youthbuild funds. It should read that the investment is contingent on receiving FY2006 Youthbuild funds.

On page 11895, section VIII., third column, HUD is correcting the agency contact for programmatic information concerning the Youthbuild program. The contacts will now be either Ann Buhlman or Priscilla Poindexter.

These corrections are also reflected in the instructions found on Grants.gov/Apply. Applicants must download the instructions to receive all forms and instructions related to this NOFA. Applicants are encouraged to read the instructions on Grants.gov/Apply prior to submitting your application in response to the Youthbuild Program funding opportunity.

Section 202 Housing for the Elderly Program (Section 202 Program) [12009]

On page 12022, Section IV.C., second column, HUD is clarifying the process that applicants who are requesting a waiver to submit a paper application must follow. Those applicants who are granted a waiver will receive a notification providing specific instructions on how and where to submit the paper application.

These corrections are also reflected in the instructions found on Grants.gov/Apply. Applicants must download the instructions to receive all forms and instructions related to this NOFA. Applicants are encouraged to read the instructions on Grants.gov/Apply prior to submitting your application in response to the section 202 Program funding opportunity.

Section 811 Supportive Housing for Persons With Disabilities (Section 811 Program) [12030]

On page 12031, Overview Information, G.4., first column, HUD inadvertently provided the wrong cross reference as to where further information could be found regarding the formation of the Owner corporation. The correct reference is section III.C.3.l.

On page 12036, section III.C.2.b.(3)(e)(i), second column, is being corrected to require that a statement must be provided attesting that there are no pre-1978 structures on site or if there are pre-1978 structures that they most recently consisted of solely four or fewer units of single-family housing including appurtenant structures.

On page 12036, section III.C.2.b.(3)(e)(ii), second column, HUD is conforming this subsection to the change made to section III.C.2.b.(3)(e)(i).

On page 12043, section IV.B.2.c.(1)(d)(vii), first column, HUD is correcting the note subsequent to the subsection because it inadvertently provided the wrong cross-reference. The cross-reference should read section III.C.2.b.(3)(d)(iii).

On page 12043, section IV.B.2.c.(1)(d)(viii)(A), first column, is being corrected to require that a statement must be provided attesting that there are no pre-1978 structures on site or if there are pre-1978 structures that they most recently consisted of solely four or fewer units of single-family housing including appurtenant structures.

On page 12043, section IV.B.2.c.(1)(d)(viii)(B), first column, HUD is conforming this subsection to the change made to section IV.B.2.c.(1)(d)(viii)(A).

On page 12043, section IV.B.2.c.(1)(d)(ix), second column, HUD is adding that in addition to providing HUD with a copy of the letter sent to the State/Tribal Historic Preservation Officer (SHPO/THPO), the applicant must also submit either a statement that the SHPO/THPO failed to respond or the SHPO/THPO response.

On page 12043, section IV.B.2.c.(1)(d)(x), second column, HUD is deleting this subsection as it has become redundant due to the modification of section IV.B.2.c.(1)(d)(ix).

On page 12043, sections IV.B.2.c.(1)(d)(xi) and (xii), second column, will be redesignated as section IV.B.2.c.(1)(d)(x) and (xi), respectively to reflect the deletion of the original section IV.B.2.c.(1)(d)(x).

On page 12045, section IV.C., second column into third column, HUD is clarifying the process that applicants who are requesting a waiver to submit a paper application must follow. Those applicants who are granted a waiver will receive a notification providing specific instructions on how and where to submit the paper application.

On page 12048, section V.A.1.c., third column, HUD mistakenly referenced FY2000 or later as the reference point for determining whether applicants have been delinquent in expending their prior fund reservations. The correct reference point is FY2001 or later.

On page 12049, section V.A.2., last paragraph, second column, HUD is revising the last paragraph to more fully explain how HUD will evaluate Rating Factor 2.

On page 12051, section V.B.1., exhibit chart, first section, HUD is adding a curable deficiency, exhibit 4(c)(iii).

On page 12051, section V.B.1., exhibit chart, second section, HUD is correcting misinformation included in exhibits 8(a) through 8(i) on the list of curable deficiencies.

On page 12052, section V.B.4., Ranking and Selection Procedures, starting with the last paragraph of the first column and continuing into the top of the second column, HUD is revising this paragraph to inform applicants that before using residual funds to restore units, HUD Headquarters will fund two applications that should have been selected during the FY2005 competition, but, in error, were not. HUD also is revising the paragraph to inform applicants that during the first round of funding of additional applications from HUD Headquarters' residual funds, HUD Headquarters will skip over any applications within the jurisdiction of the Philadelphia, PA Multifamily Program Center due to HUD Headquarters' funding of an additional application for that Program Center that was not selected in FY 2005 because of HUD error.

These corrections are also reflected in the instructions found on Grants.gov/Apply. Applicants must download the instructions to receive all forms and instructions related to this NOFA. Applicants are encouraged to read the instructions on Grants.gov/Apply prior to submitting your application in response to the Section 811 Programs funding opportunity.

Accordingly, in the Notice of HUD's Fiscal Year (FY) 2006, Notice of Funding Availability (NOFA), Policy Requirements and General Section to the SuperNOFA for HUD's Discretionary Grant Programs, beginning at 71 FR 11712, in the issue of March 8, 2006, the following corrections are made.

1. General Section

On page 3389, section IV.C.5., third column, delete item number 5.

On page 3391, section IV.F.3.d.(1), second column, is corrected to read as follows:

(1) Narrative Statements to the Factors for Award. When submitting attached files to your electronic application you must attach them as an electronic file in Microsoft Word (version 9 or earlier), Microsoft Excel 2000, or in Portable Document Format (PDF) that is compatible with AdobeTM Reader version 6.0 or earlier. In addition, some NOFAs may request photos, if this is the case, the photos may be attached using .jpg files. Computer Aided Design (CAD) files submitted electronically must be submitted in PDF format meeting the PDF format requirements. If HUD receives any file in a format other than those specified, HUD will not be able to read the file(s), and the file(s) will not be reviewed. Applicants can scan and zip files and then attach them to the electronic application. Applicants should be aware that scanning documents increases the size of the files and if applicants are using a dial-up connection or have a slow speed computer, the heavy attachments may slow the transmission. The slow upload may cause some applicant's Internet connection to time out. Therefore, HUD discourages scanning of documents and suggests use of the Facsimile solution. Applicants that will not have problems with their Internet connection timing out or have a computer that can handle large files may submit scanned and zipped files.

On page 3391, section IV.F.3.d.(2)(b), third column, first full paragraph, is corrected to read as follows:

Facsimiles transmitted in response to a NOFA must use the form HUD-96011 as the cover page. The forms on HUD's Web site are only to be used by applicants who have been granted a waiver to submit a paper application. All other applicants when submitting a fax transmittal must use the HUD Form 96011 from the electronic application package that they downloaded from Grants.gov. That package contains an embedded ID number that allows HUD to electronically match the fax to the electronic application. Without the embedded ID number on Form HUD-96011 HUD will not be able to match the fax to the application. If an applicant's fax machine automatically generates a cover page, the applicant must turn this feature off.

Important Fax Submission Tip: If you have already submitted a fax or faxes that do not follow these requirements your faxed document will NOT be associated with your submitted application package. You are encouraged to refax your documents before the closing date of the opportunity. Please be reminded that HUD will not rate or rank application packages that are submitted entirely by fax.

On page 3393, section IV.F.5., second column, is corrected to read as follows:

5. Waiver of Electronic Submission Requirements

For FY2006, the procedures for obtaining a waiver of the electronic submission requirement have changed. On December 29, 2005 (70 FR 77292), HUD published a final rule that established in 24 CFR 5.1005 the regulatory framework for HUD's electronic submission requirement, as well as the procedures for obtaining a waiver. Applicants seeking a waiver of the electronic submission requirement must request a waiver in accordance with 24 CFR 5.1005 showing cause. If the waiver is granted, the applicable program office's response will include instructions on how, where, and how many hard copies of the paper application must be submitted. Applicants that are granted a waiver of the electronic submission requirement will not be afforded additional time to submit their applications. The deadlines for applications will remain as provided in the program section of the SuperNOFA and as per the final Appendix A to be published with the SuperNOFA program sections. As a result, applicants seeking a waiver of the electronic application submission requirement should submit their waiver request with sufficient time to allow HUD to process and respond to the request. Applicants should also allow themselves sufficient time to submit their application so that HUD receives the application by the established deadline date. For this reason, HUD strongly recommends that an applicant that finds it is unable to submit its application electronically and must seek a waiver of the electronic grant submission requirement, submit its waiver request to the headquarters of the applicable HUD office approximately no later than 15 days before the application deadline date. This will allow time for HUD to process the waiver request and give the applicant sufficient time to submit the paper application to meet the deadline date requirement if the waiver is granted. To expedite the receipt and review of such requests, applicants may e-mail their requests to the program contact listed in the program NOFA (Please note the exception to this in the Section 202 Supportive Housing for the Elderly and Section 811 Supportive Housing for Persons with Disabilities Program, published as part of this technical correction). In order to have a waiver requested submitted by e-mail considered, applicants must include in the body of the e-mail the organization's name, the DUNS number, and the name and title of the Authorized Official that is legally able to make such a request from HUD. The request must also include a contact name and telephone number to call if clarification is needed. Waivers will only be granted for cause in accordance with 24 CFR 5.1005. Applications that are received after the established deadline date will not be considered.

On page 3396, section V.B.2.e, first column, the second to last sentence is revised to read as follows:

A listing of MSIs can be found on the Department of Transportation Web site at http://www.dotcr.ost.dot.gov/asp/dotpart/msi/dotpartmin.asp#3 or HUD's Web site at http://www.hud.gov/offices/adm/grants/fundsavail.cfm.

On page 3398, section VI.C., third column, add the following above the first full paragraph:

HUD has received questions on what numbers or letters should be used to note Strategic Goals and Policy Priorities in completing the Logic Model. Please use the letter a., b., c., d., etc. to note the selection of a Strategic Goal of Policy Priority on the Logic Model Form HUD 96010. If you wish to denote a sub-component of a Strategic Goal or Policy Priority please place them as part of your narrative response to Factor 5. Any sub-components you want to include in your application must be included in the Logic Model Narrative. Continuum of Care applicants should attach a document, labeled “Logic Model Narrative.” Some programs have specifically omitted the term “other” from the drop down listings in the Logic Model as items that are not on the listing will not be accepted. If the program Logic Model includes the word “other” on the listing, then you should include an explanation of “other” in your Logic Model Narrative. Continuum of Care applicants with questions should contact the agency contacts listed in the Continuum of Care program NOFA.

2. Community Development Block Grant Program for Indian Tribes and Alaska Native Villages (ICDBG), beginning at page 11728: On page 11736, secton V.A.2., rating factor chart, the Rating Factor 1 point allocations for sub-factors 1.b, 1.c., and 1.d. is corrected as follows:

Rating factor | Rating sub-factor | Points | Project type
| 1.b. | 5 or 10* | All Project Types.
| 1.c. | 3 or 10* | All Project Types.
| 1.d. | 2 or 10* | All Project Types.
*The first number listed indicates the maximum number of points available to current ICDBG grantees under this subfactor. The second number indicates the maximum number of points available to new applicants.

On page 11737, first column, section V.A.2., Rating Factor 1, 1., delete “(20 points for current ICDBG grantees) (30 points for new applicants) Managerial, Technical, and Administrative Capability” and replace with “(20 points for current ICDBG grantees) (40 points for new applicants) Managerial, Technical, and Administrative Capability.”

On page 11737, third column, section V.A.2., Rating Factor 1,1.b., in two locations of this section delete “(5 points for current ICDBG grantees) (7 points for new applicants)” and replace with “(5 points for current ICDBG grantees) (10 points for new applicants).”

On page 11738, first column, section V.A.2., Rating Factor 1, 1.c., in two locations of this section delete “(3 points for current ICDBG grantees) (8 points for new applicants)” and replace with “(3 points for current ICDBG grantees) (10 points for new applicants).”

On page 11738, second column, section V.A.2., Rating Factor 1, 1.c., delete “(2 points for current ICDBG grantees) (4 points for new applicants)” and replace with “(2 points for current ICDBG grantees) (5 points for new applicants).”

On page 11738, second column, section V.A.2., Rating Factor 1, 1.c., delete the paragraph with the point breakdown “(1 points for current ICDBG grantees) (2 points for new applicants).”

On page 11738, second column, section V.A.2., Rating Factor 1, 1.d., delete “(2 points for current ICDBG grantees) (5 points for new applicants)” and replace with “(2 points for current ICDBG grantees) (10 points for new applicants).”

On page 11738, third column, first full paragraph, section V.A.2., Rating Factor 1, 1.d., is corrected to read as follows:

(2 points for current ICDBG grantees) (10 points for new applicants). The applicant clearly described how its procurement and contract management policies and procedures will facilitate effective procurement and contract control over the proposed project, and meet the requirements of 24 CFR part 85 and 24 CFR part 1003. The applicant described how it will apply its procurement and management systems to the specific project for which they are applying. The applicant's current audit does not contain any serious or significant findings related to its procurement and contract management system, or if there is no current audit, the applicant submitted a letter from its Independent Public Accountant stating that its procurement and contract management system complies with all applicable regulatory requirements.

On page 11738, third column, section V.A.2., Rating Factor 1, 1.d., delete “(1 points for current ICDBG grantees) (4 points for new applicants)” and replace with “(1 points for current ICDBG grantees) (5 points for new applicants).”

On page 11739, second column, section V. A. 2, Rating Factor 1, 2. e. (1), delete “If there were no open audit or ICDBG monitoring findings (current grantees only), the applicant will receive 2 points”and replace with “If there were no open audit or ICDBG monitoring findings (current grantees only), the applicant will receive 4 points.”

3. Housing Counseling Program, beginning at page 11800: On page 11812, section V.B.5.b., second column, delete the last two sentences of the paragraph and replace with the following sentences, to read:

HUD reserves the right to award one or more HECM supplemental grants to intermediaries scoring 75 points or above. HUD, however, is not obligated to award HECM supplemental grant funds to every intermediary scoring 75 points or above.

4. Lead-Based Paint Hazard Control Program, Lead Hazard Reduction Demonstration Grant Program, and Operation Lead Elimination Action Program, beginning at page 11814: On page 11817, section III.A., chart, Lead Hazard Demonstration Grant Program, Eligible Applicants column, is corrected to read as follows:

City, county, or other unit of local government. Multiple units of a local government (or multiple local governments) may apply as a consortium. States and Indian Tribes may apply on behalf of units of local government within their jurisdiction, if the local government designates the state or Indian Tribe as their applicant.

On page 11818, section III.C.1.b.(10), third column, is changed to read as follows:

(10) Lead hazard control activities tied directly to a matching and/or leveraging strategy and conducted in low- and very low-income eligible privately owned owner-occupied or investor-owned rental units.

On page 11819, section III.C.3.c., first column, is corrected to read as follows:

c. All applicants under the Lead Hazard Reduction Demonstration Program must provide the actual number of children with documented elevated blood levels residing within the jurisdiction(s) where the lead hazard control work will be conducted for the most recently available 2003, 2004, or 2005 twelve month period and identify the source of the data. Failure to provide these data will result in the application not being rated or ranked.

On page 11822, section III.C.20.b.(18), second column, delete http://www.hudclips.org/subnonhud/html/forms.htm and replace with http://www.hudclips.org/sub_nonhud/html/forms.htm.

On page 11824, section V.A.1.a.(2), third column, is corrected to read as follows:

(2) Current or previous grantee awards made in FY2001 or later under any of this NOFA's programs. HUD will evaluate the applicant's quarterly performance reports for the last four (4) quarters as of the most recent reporting year. Based on the overall performance rating of the last 4 reporting quarters under the OHHLHC Quarterly Progress Reporting System, up to a maximum of 10 points will be awarded.

On page 11825, section V.A.2.b., first and second column, is corrected to read as follows:

b. Points will be awarded based on the documented housing market data relevant to the specified target area(s) entered in the Rating Factor 2 table. (5 Points for Lead-Based Paint Hazard Control and Lead Hazard Reduction Demonstration Programs, and 3 Points Maximum for Operation LEAP). Points will be awarded under the Lead Hazard Reduction Demonstration program for the number of pre-1940 occupied rental housing units in the applicant's target area(s), according to the table, “Points Awarded for Number of Pre-1940 Occupied Rental Housing Units in Target Area,” that can be downloaded from http://www.hud.gov/offices/adm/grants/fundsavail.cfm. Points will be awarded under the Lead-based Paint Hazard Control and Operation Lead Elimination Action Programs for the number of pre-1978 occupied housing units in the applicant's target area(s) according to the table, “Points Awarded for Number of Pre-1978 Occupied Housing Units Target Area,” that can be downloaded from http://www.hud.gov/offices/adm/grants/fundsavail.cfm.

On page 11825, section V.A.3.a., third column, the heading of the subsection is corrected to read as follows:

a. Lead Hazard Control Work Plan Strategy (15 Points all Applicants):

5. Technical Studies Programs (Lead Technical Studies and Healthy Homes Technical Studies), beginning at page 11834: On page 11838, section III.D.1, third column, is corrected to read as follows:

To receive an award of funds from HUD, you must meet all the threshold requirements in the General Section.

6. Healthy Homes Demonstration Program, beginning at page 11858: On page 11859, section I.A., the final paragraph of section I.A., third column, the Web site address is corrected to read as follows:

http://www.hud.gov/offices/adm/grants/nofa06/grplead.cfm.

On page 11860, section II.A., the final paragraph of section II.A., second column, the Web site address is corrected to read as follows:

http://mf.hud.gov:63001/dgms/gpi/gpi_office.cfm?programType=Lead%20Hazard%20Control.

On page 11860, section III.C.2.c., third column, the Web site address is corrected to read as follows:

http://www.hud.gov/offices/lead/leadsaferule/LSHRFinal21June04.rtf;subpart35.1350d.

On page 11861, section III.C.2.k., first column, the Web site address is corrected to read as follows:

http://www.hud.gov/offices/fheo/library/lepFRguidance.html.

On page 11861, section III.C.3.c., third column, the Web site address is corrected to read as follows:

http://www.iom.edu/cms/12552/26004/29871.aspx.

On page 11862, section III.C.3.n., second column, the Web site address is corrected to read as follows:

http://www.hud.gov/offices/adm/grants/codeofconduct/cconduct.cfm.

On page 11863, section IV.E.1., third column, the Web site address is corrected to read as follows:

http://www.hud.gov/offices/adm/grants/nofa06/admincosts.doc.

On page 11864, section V.A.2., first column, is corrected to read as follows:

2. Rating Factors

The factors for rating and ranking applicants, and maximum points for each factor, are provided below. Applicants should be certain that these factors are adequately addressed in the narrative relevant to the rating factors and the accompanying materials.

On page 11864, section V.A.2.a.(3), second paragraph, third column, is corrected to read as follows:

You must complete and submit the Factor 1, Table 1, HUD-Form-96012, posted at http://www.grants.gov/Apply to support narrative information. This table should be included in your application.

On page 11865, section V.A.2.b.(2)(c), first column, add a second paragraph to read as follows:

You must complete and submit the Factor 2 Table, Form 96016, posted at the http://www.grants.gov/Apply.

On page 11865, section V.A.2.c., first column, the Web site address is corrected to read as follows:

http://www.hud.gov/offices/adm/grants/nofa06/implementhhi.doc.

On page 11866, section V.A.2.c.(1)(i)(B), third column, the Web site address is corrected to read as follows:

http://www.hud.gov/offices/fheo/section3/section3.cfm.

On page 11867, section V.A.2.d.(3)(ii), second column, the Web site address is corrected to read as follows:

http://www.grants.gov/Apply.

On page 11869, section VII., second column, the room number is corrected to read 8236. On page 11869, section VIII.B., third column, delete “semi annual reports” and replace with “quarterly reports.”

7. Brownfields Economic Development Initiative, beginning at page 11870: On page 11873, section II.C.2.b., first column, delete “$2 million” and replace with “$1 million.”

On page 11884, section VII., second column, the sentence referencing the agency contact for program related questions is corrected to read as follows:

For assistance with program related questions, please contact David Kaminsky, Office of Economic Development; U.S. Department of Housing and Urban Development; 451 Seventh Street, SW., Room 7140; Washington, DC 20410; telephone (202) 708-3484, extension 4612 (this is not a toll-free number).

8. Youthbuild, beginning at page 11886: On page 11887, section Overview Information, G.3., first column, is corrected to read as follows:

3. Eligible Applicants.

Eligible applicants are public or private nonprofit organizations which include grassroots community-based organizations inclusive of faith-based organizations, state or local housing agencies or authorities, state or units of local government, Indian tribes, Indian housing authorities and housing entities, or any entity eligible to provide education and employment training under other Federal employment training program, as further described in HUD's regulations at 24 CFR 585.4.

On page 11888, section III.A., first column, is corrected to read as follows:

A. Eligible applicants

Eligible applicants are public or private nonprofit organizations which include grassroots community-based organizations inclusive of faith-based organizations, state or local housing agencies or authorities, state or units of local government, Indian tribes, Indian housing authorities and housing entities, or any entity eligible to provide education and employment training under other Federal employment training program, as further described in HUD's regulations at 24 CFR 585.4.

On page 11890, section VI.B.2, chart, move the information pertaining to forms “Questionnaire for HUD's Initiative on Removal of Regulatory Barriers (Form HUD-27300)” and “Facsimile Transmittal (Form HUD-96011)” from the section “Youthbuild Program Specific Forms” to the section entitled “What to submit.”

On page 11894, section V.D.1.f., first column, is corrected to read as follows:

f. An affirmation that its investment is contingent only upon the receipt of FY2006 Youthbuild funds and a statement of willingness on the part of the signatory to sign a legally binding commitment not earlier than the date this NOFA is published.

On page 11895, section VIII., third column, first full paragraph, the agency contacts for programmatic information is corrected to read as follows:

For programmatic information concerning the Youthbuild program, contact Ms. Ann Buhlman or Ms. Priscilla Poindexter; Office of Rural Housing and Economic Development; Office of Community Planning and Development; U.S. Department of Housing and Urban Development, 451 Seventh Street, SW., Washington, DC, 20410-7000; Telephone (202) 708-2290 (this is not a toll-free number). Persons with speech or hearing impairments may access this number via TTY by calling the toll-free Federal Information Relay Service at 800-877-8339. Prior to the application deadline, HUD's staff will be available to provide general guidance on the application submission process and location of information, but not guidance in preparing your application.

9. Section 202 Housing for the Elderly Program (Section 202 Program), beginning at page 12009: On page 12022, Section IV.C., second column, is corrected to read as follows:

C. Submission Dates and Times. Your application must be received and validated electronically by Grants.gov no later than 11:59:59 p.m. Eastern time on the application deadline date of June 2, 2006, unless a waiver of the electronic delivery process has been approved by HUD. Please refer to the General Section, published January 20, 2006 (71 FR 3382) as well as today's technical correction, for instructions on applying for a waiver. Applicants that are unable to submit their application electronically must seek a waiver of the electronic grant submission requirement and HUD strongly recommends that you do so no later than 15 days before the application deadline date. Waiver requests must be submitted by mail or by fax. For this program NOFA, e-mail requests will not be considered. Waiver requests submitted by mail or fax should be submitted on the applicant's letterhead and signed by an official with the legal authority to request a waiver from the Department. The request must be addressed to the Assistant Secretary for Housing at the following address: Brian D. Montgomery, Assistant Secretary for Housing-Federal Housing Commissioner, Department of Housing and Urban Development, 451 Seventh Street, SW., Room 9100, Washington, DC 20410-8000. Waiver requests submitted by fax must be sent to (202) 708-3104.

If a waiver is granted, you will receive notification that provides specific instructions on how and where to submit the paper application.

10. Section 811 Supportive Housing For Persons With Disabilities (Section 811 Programs), beginning at page 12030: On page 12031, Overview Information, G.4., first column, delete section VI.B.6. and replace with section III.C.3.l.

On page 12036, section III.C.2.b.(3)(e)(i) and (ii), second column, are corrected to read as follows:

(i) If there are no pre-1978 structures on the site or if there are pre-1978 structures that most recently consisted of solely four or fewer units of single-family housing including appurtenant structures thereto, a statement to this effect, or

(ii) If there are pre-1978 structures on the site, other than for a site that most recently consisted of solely four or fewer units of single-family housing including appurtenant structures thereto, a comprehensive building asbestos survey that is based on a thorough inspection to identify the location and condition of asbestos throughout any structures. In those cases where suspect asbestos is found, it would either be assumed to be asbestos or would require confirmatory testing. If the asbestos survey indicates the presence of asbestos or the presence of asbestos is assumed, and if the application is approved, HUD will condition the approval on an appropriate mix of asbestos abatement and an asbestos Operations and Maintenance Plan.

On page 12043, section IV.B.2.c.(1)(d)(vii), first column, in the “NOTE” following this section, delete section III.C.2.ciii. and replace with section III.C.2.b.(3)(d)(iii).

On page 12043, sections IV.B.2.c.(1)(d)(viii)(A) and (B), first column, are corrected to read as follows:

(A) If there are no pre-1978 structures on the site or if there are pre-1978 structures that most recently consisted of solely four or fewer units of single-family housing including appurtenant structures thereto, a statement to this effect, or

(B) If there are pre-1978 structures on the site other than for a site that most recently consisted of solely four or fewer units of single-family housing including appurtenant structures thereto, a comprehensive building asbestos survey that is based on a thorough inspection to identify the location and condition of asbestos throughout any structures.

On page 12043, section IV.B.2.c.(1)(d)(ix), second column, is corrected to read as follows:

(ix) The letter you sent to the State/Tribal Historic Preservation Officer (SHPO/THPO) initiating consultation with their office and requesting their review of your determinations and findings with respect to the historical significance of your proposed project, along with a statement that the SHPO/THPO failed to respond to your letter, OR the SHPO/THPO response to your letter. A sample letter that you may adapt and send to the SHPO/THPO can be found on HUD's Web site at http://www.hud.gov/offices/adm/grants/fundsavail.cfm under Section 811 Supportive Housing for Persons with Disabilities Program.

On page 12043, section IV.B.2.c.(1)(d)(x), second column, is deleted and sections IV.B.2.c.(1)(d)(xi) and (xii), will be redesignated as section IV.B.2.c.(1)(d)(x) and (xi), respectively.

On page 12045, Section IV.C., second column into third column, is corrected to read as follows:

C. Submission Dates and Times. Your application must be received and validated electronically by Grants.gov no later than 11:59:59 p.m. eastern time on the application deadline date of May 26, 2006, unless a waiver of the electronic delivery process has been approved by HUD. Please refer to the General Section, published January 20, 2006 (71 FR 3382) as well as today's technical correction, for instructions on applying for a waiver. Applicants that are unable to submit their application electronically must seek a waiver of the electronic grant submission requirement. Waiver requests must be submitted by mail or by fax. For this program NOFA, email requests will not be considered. Waiver requests submitted by mail or fax should be submitted on the applicant's letterhead and signed by an official with the legal authority to request a waiver from the Department. The request must be addressed to the Assistant Secretary for Housing at the following address: Brian D. Montgomery, Assistant Secretary for Housing-Federal Housing Commissioner, Department of Housing and Urban Development, 451 Seventh Street, SW., Room 9100, Washington, DC 20410-8000. Waiver requests submitted by fax must be sent to (202) 708-3104. Applicants that are granted a waiver of the electronic submission requirement will not be afforded additional time to submit their applications. Therefore, HUD strongly recommends that you submit your waiver requests to the above address approximately 15 days before the application deadline date. If a waiver is granted, you will receive a notification that provides specific instructions on how and where to submit the paper application.

On page 12048, section V.A.1.c., third column, delete FY2000 and replace with FY2001.

On page 12049, section V.A.2., first full paragraph, second column, is revised to read as follows:

In evaluating this factor, HUD will rate your application as follows:

a. (10 points) If a determination has been made that there is sufficient sustainable long-term demand for additional supportive housing for persons with disabilities in the area to be served, the project is to be awarded 10 points. If not, the project is to be awarded 0 points. No other point values are allowed under this subsection V.A.2.a.

b. (3 points) The extent that a connection has been established between the project and the community's Consolidated Plan, Analysis of Impediments to Fair Housing Choice (AI) or other planning document that analyzes fair housing issues and is prepared by a local planning or similar organization.

On page 12051, section V.B.1., exhibit chart, first section, insert exhibit 4(c)(iii) between 2(c) and 4(d)(i) to read as follows:

Exhibit | Description
4(c)(iii) | Description of mixed-financing plans for additional units, if applicable.

On page 12051, section V.B.1., exhibit chart, second section, exhibits 8(a) through 8(i) are corrected to read as follows:

Exhibit | Description
8(a) | Standard Form 424, Application for Federal Assistance, Letter sent to the State Point of Contact (SPOC)*.
8(b) | Standard Form 424 Supplement, Survey on Ensuring Equal Opportunity for Applicants.
8(c) | Standard Form LLL, Disclosure of Lobbying Activities (if applicable).
8(d) | Form HUD-2880, Applicant/Recipient Disclosure/update Report.
8(e) | Form HUD-2991, Certification of Consistency with Consolidated Plan
8(f) | Form HUD-92041, Sponsor's Conflict of Interest Resolution
8(g) | Form HUD-92042, Sponsor's Resolution for Commitment to Project*.
8(i) | Form HUD-92043, Supportive Services Certification.

On page 12052, section V.B.4., last paragraph, first column into second column, is corrected to read as follows:

Funds remaining after the Multifamily HUB selection process is completed will be returned to Headquarters. HUD Headquarters will use these residual funds first to fund the Methodist Rehab Center in the jurisdiction of the Jackson, MS Multifamily Program Center, a FY2005 application that was not funded due to an administrative error relative to the electronic submission process, and Lower Paxton VOA Living Center in the jurisdiction of the Philadelphia, PA Multifamily Program Center, a FY 2005 application that was not funded due to HUD error. Second, HUD Headquarters will use the residual funds to restore units to projects reduced by HUD Multifamily Program Center or Multifamily Hub as a result of the instructions for using their residual funds. Third, HUD Headquarters will use these funds for selecting additional applications based on HUD Program Centers' rankings, beginning with the highest rated application nationwide in Category A. During the first round of funding of additional applications from HUD Headquarters' residual funds, HUD Headquarters will skip over any applications within the jurisdiction of the Philadelphia, PA Multifamily Program Center because of HUD Headquarters' funding of an additional application that was not selected in FY 2005 for that Program Center, due to HUD error. Only one application will be selected per HUD Multifamily Program Center in Category A from the national residual amount. Headquarters may skip over a higher rated Category A application to ensure that only one application is selected from each HUD Multifamily Program Center. This process will continue until the remaining available funds are used to select Category A applications, to the maximum extent possible. If all Category A applications are selected, Category B applications will then become eligible for selection in rank order, beginning with the highest rated application. Only one Category B application per HUD Multifamily Program Center will be selected from the remaining national residual amount. Headquarters may skip over a higher rated Category B application in order to ensure that only one application is selected from each HUD Multifamily Program Center. This process will continue until the remaining available funds are used to select approvable applications. If there are no approvable applications in Category A in other HUD Multifamily Program Centers, then the next highest rated application in Category B in another HUD Multifamily Program Center will be selected.

Dated: April 21, 2006.
Keith A. Nelson,
Assistant Secretary for Administration.

[FR Doc. 06-4004 Filed 4-24-06; 4:23 pm]

BILLING CODE 4210-67-P